DEPARTMENT OF DEFENSE

Office of the Secretary

Defense Acquisition University Board of Visitors; Notice of Meeting; Cancellation

AGENCY: Defense Acquisition University (DAU), DoD.

ACTION: Meeting notice; cancellation.

SUMMARY: On August 16, 2012 (77 FR 49439), the Defense Acquisition University Board of Visitors announced a meeting to be held Wednesday, September 12, 2012, from 8:30 a.m. to 1 p.m. at the Defense Acquisition University Headquarters, 9820 Belvoir Road in Fort Belvoir, Virginia.

Pursuant to the Federal Advisory Committee Act of 1972 (5 U.S.C., Appendix, as amended), the Government in the Sunshine Act of 1976 (5 U.S.C. 552b, as amended), and 41 CFR 102-3.150, the Department of Defense announces that this meeting is cancelled due to scheduling conflicts.

FOR FURTHER INFORMATION CONTACT: Christen Goulding, Protocol Director, DAU; Phone: 703-805-5134, Fax: 703-805-5940, Email: christen.goulding@dau.mil.

Dated: August 27, 2012.
Aaron Siegel,
Alternate OSD Federal Register Liaison Officer, Department of Defense.

[FR Doc. 2012-21416 Filed 8-29-12; 8:45 am]

BILLING CODE 5001-06-P